DEPARTMENT OF THE INTERIOR

Bureau of Land Management

[LLNVS01000. L51010000.PQ0000. LVRWF09F8730; N-85631; MO#4500119561]

Notice of Intent To Prepare an Environmental Impact Statement and Land Use Plan Amendment, and a Notice of Segregation for the Proposed Gemini Solar Project in Clark County, Nevada

AGENCY: Bureau of Land Management, Interior.

ACTION: Notice of intent.

SUMMARY: As requested by Solar Partners XI, LLC, and in compliance with the National Environmental Policy Act of 1969, as amended (NEPA), the Bureau of Land Management (BLM) Las Vegas Field Office intends to prepare an Environmental Impact Statement (EIS) and land use plan amendment to the 1998 Resource Management Plan (RMP) for the proposed Gemini Solar Project in Clark County, Nevada. Publication of this Notice initiates the scoping process and opens a 45-day public comment period. Publication of this Notice also segregates the public lands from appropriation under the public land laws, including location under the Mining Law, but not the mineral leasing laws or the Materials Act, subject to valid existing rights.

DATES: Written comments must be received by the BLM no later than August 27, 2018. The date(s) and location(s) of any scoping meetings will be announced at least 15 days in advance through local news media and the BLM website at: https://go.usa.gov/xntTQ.

Comments must be received prior to the close of the scoping period or 15 days after the last public meeting, whichever is later, to be included in the Draft EIS. The BLM will provide additional opportunities for public participation upon publication of the Draft EIS.

ADDRESSES: You may submit comments by any of the following methods:

• Email: blm_nv_sndo_geminisolar@blm.gov.

• E-planning: https://go.usa.gov/xntTQ.

• Fax: 702-515-5023, Attention: Herman Pinales.

• Mail: BLM, Las Vegas Field Office, Attn: Herman Pinales, 4701 North Torrey Pines Drive, Las Vegas, Nevada 89130-2301.

FOR FURTHER INFORMATION CONTACT: For further information, and/or to have your name added to the mailing list, send requests to: Herman Pinales, Energy & Infrastructure Project Manager, at telephone 702-515-5284; address 4701 North Torrey Pines Drive, Las Vegas, Nevada 89130-2301; or email blm_nv_sndo_geminisolar@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: In 2017, Solar Partners XI, LLC filed an application with the BLM requesting authorization to construct, operate, maintain, and decommission a 690-megawatt-per-year photovoltaic (PV) solar electric generating facility and associated generation tie-line and access road facilities. The expected life of the project is 30 years. The Solar Partners XI, LLC acquired the original 44,000-acre APEX Solar Thermal Power Generation Facility right-of-way application filed in 2008 by BrightSource Energy, LLC.

The proposed Gemini Solar Project would be located approximately 25 miles northeast of Las Vegas and south of the Moapa River Indian Reservation in Clark County, Nevada.

The proposed Gemini Solar Project includes 7,115 acres of federal lands administered by the BLM. The Visual Resource Management (VRM) class in the Application Area is mostly III and some II (due to proximity to Muddy Mountain Wilderness Area and Bitter Springs Back Country Byway), which will require a land use plan amendment to a class IV in order for the project to be consistent with the land use plan. A VRM class 2 allows for activities with a low level of landscape change; a class III allows a moderate level of change that would not dominate the landscape; and a class IV allows a high level of change that would dominate the landscape.

The purpose of the public scoping process is to determine relevant issues that will influence the scope of the environmental analysis, including alternatives, and to guide the process for developing the EIS. At present, the BLM has identified the following preliminary issues: Threatened and endangered species, biological resources, visual resources, cultural resources, tribal interests, recreation, and cumulative impacts. The Congressionally-designated Old Spanish National Historic Trail crosses the area. Habitat for the federally listed desert tortoise is also in this proposed area.

The BLM will consult with Native American tribes on a government-to-government basis in accordance with applicable laws, regulations, Executive Order 13175, and other policies. Tribal concerns will be given due consideration, including impacts on Indian Trust assets. Federal, State, and local agencies, along with other stakeholders that may be interested or affected by the BLM's decision on this project, are invited to participate in the scoping process and, if eligible, may request or be requested by the BLM to participate as a cooperating agency.

Segregation of the Public Lands

In 2013, the BLM published a Final Rule, Segregation of Lands—Renewable Energy (78 FR 25204), that amended the regulations found in 43 CFR 2090 and 2800. The provisions of the Final Rule allow the BLM to temporarily segregate public lands within a solar or wind application area from the operation of the public land laws, including the Mining Law, by publication of a Federal Register notice. The BLM uses this temporary segregation authority to preserve its ability to approve, approve with modifications, or deny proposed ROWs, and to facilitate the orderly administration of the public lands. This temporary segregation is subject to valid existing mining claims located before this segregation notice. Licenses, permits, cooperative agreements, or discretionary land use authorizations of a temporary nature which would not impact lands identified in this notice may be allowed with the approval of an authorized officer of the BLM during the segregation period. The lands segregated under this notice are legally described as follows:

Mount Diablo Meridian, Clark County, Nevada

T. 17 S., R. 64 E.,

Sec. 10, S½;

Sec. 11, S½;

Secs. 12 and 13;

Sec. 14, N½ and SE¼;

Sec. 15, N½;

Sec. 22, E½;

Secs. 23 thru 26;

Sec. 27, E½;

Sec. 34, E½;

Secs. 35 and 36.

T. 17 S., R. 65 E.

Secs. 7 thru 24;

Secs. 26 thru 35.

T. 17 S., R. 66 E.,

Secs. 7, 18 and 19.

T. 18 S., R. 64 E.,

Secs. 1 and 2;

Sec. 3, lots 5 and 6, S½NE¼, and SE¼;

Sec. 10, E½;

Secs. 11 thru 14;

Sec. 15, E½;

Sec. 22, E½;

Secs. 23 thru 26;

Sec. 27, E½;

Sec. 34, E½;

Secs. 35 and 36.

T. 18 S., R. 65 E.,

Secs. 2 thru 9;

Secs. 16 thru 20;

Sec. 21, N½ and SW¼;

Sec. 30.

The areas described contain 45,165.48 acres, according to the official plats of the surveys and protraction diagrams of the lands on file with the BLM.

As provided in the Final Rule, the segregation of lands in this Notice will not exceed 2 years from the date of publication unless extended for up to 2 additional years through publication of a new notice in the Federal Register. Termination of the segregation occurs on the earliest of the following dates: Upon issuance of a decision by the authorized officer granting, granting with modifications, or denying the application for a ROW; automatically at the end of the segregation; or upon publication of a Federal Register notice of termination of the segregation.

Upon termination of segregation of these lands, all lands subject to this segregation would automatically reopen to appropriation under the public land laws.

Before including your address, phone number, email address, or other personal identifying information in your comment, you should be aware that your entire comment—including your personal identifying information—may be made publicly available at any time. While you can ask us in your comment to withhold your personal identifying information from public review, we cannot guarantee that we will be able to do so.

Authority: 40 CFR 1501.7, 43 CFR 1610.2, 43 CFR 1610.5, 43 CFR 2091.3-1(e), and 43 CFR 2804.25(f)

Gayle Marrs-Smith,
Las Vegas Field Manager.

[FR Doc. 2018-15020 Filed 7-12-18; 8:45 am]

BILLING CODE 4310-HC-P